DEPARTMENT OF THE INTERIOR

Fish and Wildlife Service

Notice of Availability of a Safe Harbor Agreement With Assurances and Receipt of Application for an Enhancement of Survival Permit for Activities on the Robert K. Long Ranch in Bastrop County, TX

AGENCY: U.S. Fish and Wildlife Service, Interior.

ACTION: Notice of availability.

SUMMARY: This notice advises the public that Robert K. Long, Sr. (Applicant) has applied to the Fish and Wildlife Service (Service) for an enhancement of survival permit pursuant to section 10(a)(1)(A) of the Endangered Species Act (Act) of 1973, as amended (16 U.S.C. 1531 et seq.). The permit application includes a proposed Safe Harbor Agreement (SHA) for the endangered Houston toad (Bufo houstonensis) for a period of 10 years.

DATES: Written comments must be received within 30 days of the date of this publication.

ADDRESSES: Persons wishing to review the application may obtain a copy by writing to the Regional Director, U.S. Fish and Wildlife Service, P.O. Box 1306, Room 4102, Albuquerque, New Mexico 87103. Persons wishing to review the SHA may obtain a copy by contacting Paige Najvar, U.S. Fish and Wildlife Service, 10711 Burnet Road, Suite 200, Austin, Texas 78758 (512-490-0057). Documents will be available for public inspection by written request, by appointment only, during normal business hours (8 to 4:30) at the U.S. Fish and Wildlife Service, Austin, Texas. Written data or comments concerning the application and SHA should be submitted to the Supervisor, U.S. Fish and Wildlife Service, 10711 Burnet Road, Suite 200, Austin, Texas 78758 Austin, Texas. Please refer to permit number TE-074530-0 when submitting comments.

FOR FURTHER INFORMATION CONTACT: Paige Najvar at 10711 Burnet Road, Suite 200, Austin, Texas 78758 (512-490-0057; Fax 512-490-0974).

SUPPLEMENTARY INFORMATION: We (the Service) announce the opening of a 30-day comment period and request comments from the public on the Applicant's enhancement of survival permit application and the accompanying proposed SHA. All comments we receive, including names and addresses, will become part of the administrative record and may be released to the public.

Under a Safe Harbor Agreement, participating property owners voluntarily undertake management activities on their property to enhance, restore, or maintain habitat benefitting species listed under the Act. Safe Harbor Agreements encourage private and other non-Federal property owners to implement conservation efforts for listed species by assuring property owners they will not be subjected to increased property use restrictions due to their efforts to attract listed species to their property or increase the numbers or distribution of listed species already on their property. Application requirements and issuance criteria for enhancement of survival permits through Safe Harbor Agreements are found in 50 CFR 17.22 and 17.32.

The Service worked with the Applicant to design and implement conservation measures that are expected to provide a net conservation benefit to the Houston toad in Bastrop County, Texas. Conservation measures the Applicant will undertake according to the Agreement are: (1) Fence an existing pond and an ephemeral wetland so as to exclude cattle during the breeding season, (2) install fencing in a manner that protects important habitat areas and facilitates herd rotation, (3) create a shallow ephemeral pond designed to facilitate and enhance toad breeding success, (4) install alternative water sources for the cattle, (5) thin understory vegetation in woodlands and forests, (6) link ponds and woodlands through strategic location of brush piles and (where feasible) establishment of woodland corridors, (7) develop and implement a prescribed fire plan for the entire Ranch, (8) plant and protect native bunchgrasses, and (9) treat imported red fire ant mounds.

The incidental take of toads may occur from (1) habitat management actions conducted in accordance with the conservation measures in the Agreement, (2) ongoing ranch activities that may have an increased chance of taking a toad if toad numbers increase, as expected, and (3) removal of the improvements, at some point in the future, if the Applicant exercises his authorization to do so under the permit.

We provide this notice pursuant to section 10(c) of the Endangered Species Act and pursuant to implementing regulations for the National Environmental Policy Act (40 CFR 1506.6).

Dated: July 11, 2003.
Stuart C. Leon,
Acting Regional Director, Southwest Region, Albuquerque, New Mexico.

[FR Doc. 03-19684 Filed 8-1-03; 8:45 am]

BILLING CODE 4510-55-P-